DEPARTMENT OF ENERGY

Federal Energy Regulatory Commission

[Docket No. CP25-552-000]

Algonquin Gas Transmission, LLC; Notice of Schedule for the Preparation of an Environmental Assessment for the Cape Cod Canal Pipeline Relocation Project

On September 29, 2025, Algonquin Gas Transmission, LLC (Algonquin) filed an application in Docket No. CP25-552 requesting a Certificate of Public Convenience and Necessity pursuant to Section 7(c) and Authorization pursuant to Section 7(b) of the Natural Gas Act to construct and operate, and to abandon certain natural gas pipeline facilities. The proposed project is known as the Cape Cod Canal Pipeline Relocation Project (Project). Algonquin would modify its existing interstate natural gas pipeline system facilities within the Town of Bourne, Barnstable County, Massachusetts, to accommodate the planned replacement of the Bourne Bridge and Sagamore Bridge by the Cape Cod Bridges Program while continuing to provide uninterrupted natural gas service to the National Grid distribution system on both sides of the Cape Cod Canal.¹

¹ The U.S. Army Corps of Engineers owns and operates the Bourne and Sagamore Bridges and the Cape Cod Canal and is jointly implementing the Cape Cod Bridges Program with the Massachusetts Department of Transportation.

On October 8, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.² The EA will be issued for a 30-day comment period.

² For tracking purposes under the National Environmental Policy Act, the unique identification number for documents relating to this environmental review is EAXX-019-20-000-1763050824.

Schedule for Environmental Review

Issuance of EA—April 17, 2026

90-day Federal Authorization Decision Deadline ³—July 16, 2026

³ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would consist of the following facilities and activities:

• installation of approximately 3.0 miles of 16-inch-diameter and approximately 2.2 miles of 18-inch-diameter pipeline to replace National Grid's existing pipelines currently attached to the existing Bourne and Sagamore Bridges;

• relocation of approximately 0.4 mile of existing 8-inch-diameter and 0.7 mile of 18-inch-diameter pipelines adjacent to the existing Sagamore and Bourne Bridges;

• abandonment by removal or in place of approximately 3.0 miles of existing 8-inch-diameter and 0.5 mile of 18-inch-diameter pipelines;

• removal and relocation of two existing mainland meter and regulating (M&R) stations—Sagamore and Bourne—that are within the footprint of the Cape Cod Bridges Program workspace; and

• installation of two new M&R stations—Pave Paws Road and Bourne Rotary.

Background

On April 3, 2025, the Commission issued a Notice of Scoping Period Requesting Comments on Environmental Issues for the Planned Cape Cod Canal Bridge Relocation Project and Notice of Public Scoping Session (Notice of Scoping).⁴ The Notice of Scoping was issued during the pre-filing review of the Project in Docket No. PF25-4 and was sent to affected landowners; federal, state, and local government agencies; elected officials; environmental and public interest groups; Native American tribes; other interested parties; and local libraries and newspapers. In response to the Notice of Scoping, the Commission received comments from the Cape Cod Chamber of Commerce, the Cape & Islands Bridges Coalition, the Berkshire Environmental Action Team, one landowner, and 18 other individuals. The primary and relevant issues raised by the commenters were the purpose and need for the Project; effects to sensitive resources in the Project area (e.g., wetlands, sole source aquifers, and listed species); effects to local traffic and noise during construction; and effects to air quality during operations. All substantive comments will be addressed in the EA.

⁴ During pre-filing, Algonquin changed the name of the FERC-jurisdictional Project to avoid confusion with replacement of the Bourne and Sagamore Bridges planned by the Cape Cod Bridges Program.

The U.S. Army Corps of Engineers, U.S. Environmental Protection Agency, and the Massachusetts Army National Guard are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or request for rehearing contact the Office of Public Participation at (202) 502-6595 or OPP@ferc.gov.

Additional information about the Project is available from the FERC website (www.ferc.gov). Using the “eLibrary” link, select “General Search” from the eLibrary menu, enter the selected date range and “Docket Number” excluding the last three digits (i.e., CP25-552), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: December 8, 2025.
Debbie-Anne A. Reese,
Secretary.

[FR Doc. 2025-22551 Filed 12-10-25; 8:45 am]

BILLING CODE 6717-01-P